DEPARTMENT OF COMMERCE

National Oceanic and Atmospheric Administration

RIN 0648-XP71

Notice of Availability of Draft Stock Assessment Reports

AGENCY: National Marine Fisheries Service (NMFS), National Oceanic and Atmospheric Administration (NOAA), Commerce.

ACTION: Notice; request for comments.

SUMMARY: NMFS reviewed the Alaska, Atlantic, and Pacific regional marine mammal stock assessment reports (SARs) in accordance with the Marine Mammal Protection Act. SARs for marine mammals in the Alaska, Atlantic, and Pacific regions were revised according to new information. NMFS solicits public comments on draft 2009 SARs.

DATES: Comments must be received by September 24, 2009.

ADDRESSES: The 2009 draft stock assessment reports and summaries of them are available in electronic form via the Internet at http://www.nmfs.noaa.gov/pr/sars/.

Copies of the Alaska Regional SARs may be requested from Robyn Angliss, Alaska Fisheries Science Center, NMFS, 7600 Sand Point Way, NE BIN 15700, Seattle, WA 98115-0070.

Copies of the Atlantic and Gulf of Mexico Regional SARs may be requested from Gordon Waring, Northeast Fisheries Science Center, 166 Water St., Woods Hole, MA 02543.

Copies of the Pacific Regional SARs may be requested from Jim Carretta, Southwest Fisheries Science Center, 8604 La Jolla Shores Drive, La Jolla, CA 92037-1508.

Send comments or requests for copies of reports to: Chief, Marine Mammal and Sea Turtle Conservation Division, Office of Protected Resources, National Marine Fisheries Service, 1315 East-West Highway, Silver Spring, MD 20910-3226, Attn: Stock Assessments. Comments may also be sent via facsimile (fax) to 301-427-2522 or via email to mmsar.2009@noaa.gov.

FOR FURTHER INFORMATION CONTACT: Tom Eagle, Office of Protected Resources, 301-713-2322, ext. 105, e-mail Tom.Eagle@noaa.gov; Robyn Angliss 206- 526-4032, e-mail Robyn.Angliss@noaa.gov, regarding Alaska regional stock assessments; Gordon Waring, 508-495-2311, e-mail Gordon.Waring@noaa.gov, regarding Atlantic regional stock assessments; or Jim Carretta, 858-546-7171, e-mail Jim.Carretta@noaa.gov, regarding Pacific regional stock assessments.

SUPPLEMENTARY INFORMATION:

Background

Section 117 of the Marine Mammal Protection Act (MMPA) (16 U.S.C. 1361 et seq.) requires NMFS and the U.S. Fish and Wildlife Service (FWS) to prepare stock assessments for each stock of marine mammals occurring in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available, and at least once every 3 years for non-strategic stocks. NMFS and the FWS are required to revise a SAR if the status of the stock has changed or can be more accurately determined. NMFS, in conjunction with the Alaska, Atlantic, and Pacific Scientific Review Groups (SRGs), reviewed the status of marine mammal stocks as required and revised reports in the Alaska, Atlantic, and Pacific regions to incorporate new information. NMFS solicits public comments on the draft 2009 SARs.

Alaska Reports

Twenty-three reports (14 strategic stocks and 9 non-strategic stocks) were revised, and 13 reports were not revised. Most revisions included updates of abundance and/or mortality estimates; there were no changes in the status of the affected stocks.

The most recent 5-year period of incidental mortality and serious injury estimates for Federal fisheries in Alaska is 2002-2006. Although observer data from these fisheries are available for more recent years, analysis of observer data from 2007 and 2008 has not been completed due to changes in staffing and in the structure of the database. The 2007 and 2008 fishery mortality data are currently being analyzed, and these results will be incorporated in the 2010 SARs.

Results from a collaborative international study on humpback whales have been incorporated into the reports for the Central and Western North Pacific stocks. These results produced new abundance estimates for these stocks and allowed PBR for both stocks to be changed from undetermined to calculated values. Both stocks remain strategic stocks because they are populations of an endangered species.

Atlantic Reports

Fifty-two new or updated reports (16 strategic and 36 non-strategic) are included among 2009 Atlantic regional SARs. Nineteen reports were not revised. New reports include four stock-specific reports for beaked whales and nine new reports of bay, sound, and estuary stocks of bottlenose dolphins along the Atlantic coast. The 39 revised reports included updates of abundance or mortality estimates, strandings, and status of these stocks was unchanged. However, Potential Biological Removal (PBR) estimates for three stocks of dolphins (bottlenose, Atlantic spotted, and rough-toothed) in the Gulf of Mexico were changed to “undetermined” because the abundance data supporting these estimates are outdated (more than 8 years old).

The beaked whale reports were previously published as a combined report (Mesoplodon sp.) because most beaked whale species cannot be distinguished from one another during abundance surveys. Each of the new reports and the report for Cuvier's beaked whale contain the same numbers for abundance (3,513), minimum population estimate (2,154), and PBR (17) and were included in the 2008 SAR for Mesoplodon sp. Similarly, a single observed serious injury of an unidentified beaked whale incidental to a long-line fishery is included in all reports; three of the beaked whale species (Blainville's, Sowerby's, and True's) have additional human-caused mortality based upon stranded animals that were identified to species.

Bottlenose dolphins within bays, sounds, and estuaries along the Atlantic coast were not included in previous stock assessment reports. Although these stock identities have been proposed, there is sufficient mixing of individuals from coastal and bay stocks that abundance and mortality/serious injury estimates for all nine of the new bottlenose dolphin stocks are unknown.

Pacific Reports

In the Pacific region, 13 reports were updated in 2009, including 8 strategic stocks and 5 non-strategic stocks; 50 SARs were not revised. Most changes were updates of abundance or mortality estimates and did not result in a change of status of any stock.

A new SAR for humpback whales in American Samoa waters, which is strategic because all humpback whales are listed under the Endangered Species Act, is also included. The assessment for Northern Oregon/Washington Coast stock of harbor porpoise includes a name change (“Oregon” is appended to “Northern Oregon”) to reflect recent stock boundary changes. Changes in abundance estimates for the two stocks of harbor porpoise that occur in Oregon waters are the result of these boundary changes and do not reflect biological changes in the populations.

Dated: June 19, 2009.
Helen M. Golde,
Deputy Director, Office of Protected Resources, National Marine Fisheries Service.

[FR Doc. E9-15200 Filed 6-25-09; 8:45 am]

BILLING CODE 3510-22-S